DEPARTMENT OF JUSTICE

Office of Justice Programs

[OMB Number 1121-0240]

Agency Information Collection Activities: Proposed Collection; Comments Requested

ACTION: 30-Day Notice of New Information Collection: 2008 Census of State and Local Law Enforcement Agencies.

The Department of Justice, Office of Justice Programs, Bureau of Justice Statistics, will be submitting the following information collection request to the Office of Management and Budget (OMB) for review and approval in accordance with the Paperwork Reduction Act of 1995. The proposed information collection is published to obtain comments from the public and affected agencies. The proposed information collection was previously published in the Federal Register Volume, 73, Number 108, page 31883 on June 4, 2008, allowing for a 60-day public comment period.

The purpose of this notice is to allow an additional 30 days for public comment until September 10, 2008. This process is conducted in accordance with 5 CFR 1320.10.

Written comments and/or suggestions regarding the items contained in this notice, especially the estimated public burden and associated response time, should be directed to the Office of Management and Budget, Office of Information and Regulatory Affairs, Attention: Department of Justice Desk Officer, Washington, DC 20503. Additionally, comments may be submitted to OMB via facsimile to (202) 395-5806.

Written comments and suggestions from the pubic and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

(1) Type of Information Collection: Revision of a Currently Approved Collection, Census of State and Local Law Enforcement Agencies.

(2) The Title of the Form/Collection: 2008 Census of State and Local Law Enforcement Agencies.

(3) The Agency Form Number, if any, and the Applicable Component of the Department Sponsoring the Collection: The form numbers are CJ-38S and CJ-38L, Bureau of Justice Statistics, Office of Justice Programs, United States Department of Justice.

(4) Affected Public Who Will Be Asked or Required To Respond, as Well as a Brief Abstract: All State and local law enforcement agencies with at least 1 full-time or part-time sworn officer. This nationwide information collection will identify all State and local law enforcement agencies, their number of sworn and civilian employees, and the functions they perform. Additional information pertaining to issues of recruiting, hiring and retention will be gathered from a sample of agencies. The information collected will provide national counts of law enforcement employees, track national growth trends in law enforcement and identify agencies with recruitment and retention problems. Agencies with successful recruitment and retention records can be compared with those dealing with staff shortages to determine ways in which the recruitment and retention of sworn personnel can be improved in those agencies.

(5) An Estimate of the Total Number of Respondents and the Amount of Time Estimated for an Average Respondent To Respond: An estimated 15,775 law enforcement agencies will complete 30-minute questionnaire (CJ-38S), and 3,225 agencies will complete a 90-minute questionnaire (CJ-38L).

(6) An Estimate of the Total Public Burden (in Hours) Associated With the Collection: The estimated public burden associated with this collection is 12,725 hours. (15,775 data collection forms completed at 30 minutes = 7,888 burden hours and 3,255 forms completed at 90 minutes each = 4,837 burden hours).

If additional information is required contact: Ms. Lynn Bryant, Department Clearance Officer, United States Department of Justice, Justice Management Division, Policy and Planning Staff, Patrick Henry Building, Suite 1600, 601 D Street, NW., Washington, DC 20530.

Dated: August 5, 2008.
Lynn Bryant,
Department Clearance Officer, PRA, United States Department of Justice.

[FR Doc. E8-18416 Filed 8-8-08; 8:45 am]

BILLING CODE 4410-18-P